DEPARTMENT OF TRANSPORTATION

Federal Highway Administration

Notice To Rescind a Notice of Intent to Prepare an Environmental Impact Statement for Transportation Improvements Along the Route 9 Corridor in Middlesex County, Connecticut

AGENCY: Federal Highway Administration (FHWA), DOT.

ACTION: Notice to Rescind a Notice of Intent.

SUMMARY: The FHWA is issuing this notice to advise the public that, effective immediately, we are rescinding the Notice of Intent (NOI) to prepare an Environmental Impact Statement (EIS) for proposed transportation improvements along the Route 9 Corridor located in the City of Middletown in Middlesex County, CT. The NOI was published in the Federal Register (FR) on August 9, 2002 (FR Vol. 67, No. 154, p. 51924; FR Doc 02-20170).

FOR FURTHER INFORMATION CONTACT: Eloise Powell, Team Leader for Planning, Environment, and Research, FHWA Connecticut Division, 628-2 Hebron Avenue, Suite 303, Glastonbury, CT 06033, Telephone: (860) 494-7566, Email: eloise.powell@dot.gov.

SUPPLEMENTARY INFORMATION: The FHWA, in cooperation with the Connecticut Department of Transportation (CTDOT), issued a NOI on August 9, 2002, to prepare an EIS for proposed transportation improvements along the Route 9 corridor, in the City of Middletown. The proposed improvements to be evaluated were located between the Washington Street (Route 66) intersection and the Arrigoni Bridge over the Mattabesset River for a distance of approximately 6,000 feet. The purpose of the proposed improvements was to provide additional capacity for existing and future traffic volumes. Due to the environmental constraints in the project area (particularly the location of NRHP-eligible or NRHP-listed buildings in Middletown), as well as the re-prioritization of major transportation projects in Connecticut, the CTDOT is no longer pursuing this project. Rather, studies are being done to determine specific safety and capacity improvements in the Route 9 corridor. Any future transportation improvements in the Route 9 corridor will progress under a separate environmental review process, in accordance with all applicable laws and regulations. Therefore, the NOI for this project is rescinded.

Dated: January 16, 2014.
Amy Jackson-Grove,
FHWA Connecticut Division Administrator, Glastonbury, Connecticut.

[FR Doc. 2014-01267 Filed 1-22-14; 8:45 am]

BILLING CODE 4910-22-P